DEPARTMENT OF JUSTICE

Antitrust Division

Notice Pursuant to the National Cooperative Research and Production Act of 1993—Cooperative Research Group on Diesel Aftertreatment Accelerated Aging Cycles—Heavy-Duty

Notice is hereby given that, on June 23, 2011, pursuant to Section 6(a) of the National Cooperative Research and Production Act of 1993, 15 U.S.C. 4301 et seq. (“the Act”), Southwest Research Institute—Cooperative Research Group on Diesel Aftertreatment Accelerated Aging Cycles—Heavy-Duty (“DAAAC-HD”) has filed written notifications simultaneously with the Attorney General and the Federal Trade Commission disclosing changes in its nature, objectives, and membership. The notifications were filed for the purpose of extending the Act's provisions limiting the recovery of antitrust plaintiffs to actual damages under specified circumstances. Specifically, the period of performance has been extended to February 29, 2012. Additionally, Navistar, Melrose Park, IL, has withdrawn as a party to this venture.

No other changes have been made in either the membership or planned activity of the group research project. Membership in this group research project remains open, and DAAAC-HD intends to file additional written notifications disclosing all changes in membership.

On February 2, 2009, DAAAC-HD filed its original notification pursuant to Section 6(a) of the Act. The Department of Justice published a notice in the Federal Register pursuant to Section 6(b) of the Act on February 26, 2009 (74 FR 8813).

The last notification was filed with the Department on May 12, 2010. A notice was published in the Federal Register pursuant to Section 6(b) of the Act on June 4, 2010 (75 FR 31816).

Patricia A. Brink,
Director of Civil Enforcement, Antitrust Division.

[FR Doc. 2011-18027 Filed 7-19-11; 8:45 am]

BILLING CODE 4410-11-P